DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, State Route 49 and State Route 4, from post miles: 4-8.4-9.1, R20.8-21.4 within the City of Angels Camp in the County Calaveras County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 29, 2024. If the Federal law that authorizes judicial review of a claim provides a time period of less than 150 days for filing such claim, then that shorter time period still applies.

FOR FURTHER INFORMATION CONTACT: For Caltrans: Jonathan Coley-Branch Chief, California Department of Transportation, Northern San Joaquin Environmental Management Branch 1, 1976 Doctor Martin Luther King Junior Boulevard, Stockton, CA 95205. Office Hours 8 a.m.-5 p.m., Pacific standard time, (209) 479-4083 or email at Jonathan.coley@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, have taken final agency actions subject to 23 U.S.C. 139(l)(1) by issuing licenses, permits, and approvals for the following highway project in the State of California: The Calaveras 49 Mobility Improvement Project will make intersection, roadway, pedestrian, and bicycle improvements along State Route 49 from post miles 8.4 to 9.1 and on State Route 4 from post miles R20.8 to R21.4 in the City of Angels Camp in Calaveras County. The actions by the Federal agencies, and the laws under which such actions were taken, are described in the Final Environmental Assessment (EA)/Finding of No Significant Impact (FONSI) for the project, approved on June 29, 2023, in the Notice of Decision (NOD) issued on July 5, 2023, and in other documents in the project records. The EA, NOD, and other project records are available by contacting Caltrans at the address provided above. The Caltrans EA and NOD can be viewed and downloaded from the project website at https://dot.ca.gov/caltrans-near-me/district-10/district-10-current-projects/10-1h010.

This notice applies to all Federal agency decisions as of the issuance date of this notice and all laws under which such actions were taken, including but not limited to:

1. National Environmental Policy Act of 1969

2. Clean Air Act, 42 U.S.C. 7401-7671

3. Endangered Species Act of 1973 (ESA), 16 U.S.C. 1531-1544

4. National Historic Preservation Act of 1966 (NHPA)

5. Clean Water Act, 33 U.S.C. 1251-1387 (sections 319, 401, and 404)

6. Executive Order 12989, Federal Actions to Address Environmental Justice and Low-Income Populations

7. Resource Conservation and Recovery Act of 1976

8. Comprehensive Environmental Response, Compensation and Liability of Act of 1980

Title VI of the Civil Rights Act of 1964, as amended

(Catalog of Federal Domestic Assistance Program Number 20.205, Highway Planning and Construction. The regulations implementing Executive Order 12372 regarding intergovernmental consultation on Federal programs and activities apply to this program.)

Authority: 23 U.S.C. 139(l)(1).

Antonio Johnson,
Director of Planning, Environmental and Right of Way, Federal Highway Administration, California Division.

[FR Doc. 2024-04187 Filed 2-28-24; 8:45 am]

BILLING CODE 4910-RY-P